DEPARTMENT OF AGRICULTURE

Farm Service Agency

Information Collection; General Program Administration

AGENCY: Farm Service Agency, USDA.

ACTION: Notice; request for comments.

SUMMARY: In accordance with the Paperwork Reduction Act of 1995, Farm Service (FSA) is requesting comments from individuals and organizations on an extension with revision of a currently approved information collection that supports Farm Loan Programs (FLP) for the General Program Administration.

DATES: We will consider comments that we receive by August 16, 2010.

ADDRESSES: We invite you to submit comments on this notice. In your comments, include date, volume, and page number of this issue of the Federal Register. You may submit comments by any of the following methods:

• Mail: Clarence (Chuck) Ropp, Senior Loan Officer, USDA/FSA/FLP, STOP 0521, 1400 Independence Avenue, SW., Washington, DC 20250-0521.

• E-mail: clarence.ropp@wdc.usda.gov.

• Fax: 202-720-8474.

You may also send comments to the Desk Officer for Agriculture, Office of Information and Regulatory Affairs, Office of Management and Budget, Washington, DC 20253. Copies of the information collection may be requested by contacting Clarence (Chuck) Ropp at the above address.

FOR FURTHER INFORMATION CONTACT: Clarence (Chuck) Ropp, Senior Loan Officer, Farm Service Agency, (202) 690-4008.

SUPPLEMENTARY INFORMATION:

Title: Farm Loan Programs—General Program Administration (7 CFR part 761).

OMB Number: 0560-0238.

Expiration Date: 11/30/2010.

Type of Request: Extension with revision.

Abstract: FSA established the requirements that are applicable to both making and servicing direct loans, as specified in 7 CFR part 761. Information collections are necessary to ensure that program applicants and participants meet statutory eligibility requirements, loan funds are used for authorized purposes and the Government's interest in security is adequately protected. Specific information collection requirements include financial information in the form of a balance sheet and cash flow projection used in loan making and servicing decisions; information needed to establish joint bank accounts in which loan funds, proceeds derived from the sale of loan security and insurance proceeds may be deposited; collateral pledges from financial institutions when the balance of a supervised bank account will exceed $100,000; and documents showing that construction plans and specifications comply with State and local building standards.

Respondents: Individuals or households, businesses or other for profit and farms.

Estimated Average Time To Respond: Public reporting for this collection of information is estimated to average 53 minutes per response. The average travel time, which is included in the total annual burden, is estimated to be 1 hour per respondent.

Estimated Annual Number of Respondents: 90,947.

Estimated Number of Responses per Respondent: 2.40.

Estimated Annual Number of Responses: 218,482.

Estimated Total Annual Burden Hours: 245,762.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget (OMB) approval.

Signed at Washington, DC, on June 8, 2010.
Jonathan W. Coppess,
Administrator, Farm Service Agency.

[FR Doc. 2010-14428 Filed 6-15-10; 8:45 am]

BILLING CODE 3410-05-P